DEPARTMENT OF ENERGY

Federal Energy Regulatory Commission

[Docket Nos. CP21-1-000, CP21-458-000]

Golden Pass Pipeline Company, LLC; Notice of Intent To Prepare an Environmental Impact Statement for the Proposed MP66-69 Compression Relocation and Modification Amendment and the Proposed MP33 Compressor Station Modification Amendment and Request for Comments on Environmental Issues

The staff of the Federal Energy Regulatory Commission (FERC or Commission) will prepare an environmental impact statement (EIS) that will discuss the environmental impacts of the proposed MP66-69 Compression Relocation and Modification Amendment and the proposed MP33 Compressor Station Modification Amendment (Amendments), involving construction and operation of facilities by Golden Pass Pipeline Company, LLC (Golden Pass) in Calcasieu Parish, Louisiana and Orange County, Texas. The original Golden Pass LNG Export Project and Expansion Pipeline Project were reviewed in the 2016 Final Environmental Impact Statement issued in Docket No. CP14-517-000 and CP14-518-000 for the Golden Pass LNG Export Project (2016 FEIS), and the Order Granting Authorizations Under Sections 3 and 7 of the Natural Gas Act was issued on December 21, 2016. The Commission will use this EIS in its decision-making process to determine whether the Amendments are in the public convenience and necessity. The schedule for preparation of the EIS is discussed in the Schedule for Environmental Review section of this notice.

As part of the National Environmental Policy Act (NEPA) review process, the Commission takes into account concerns the public may have about proposals and the environmental impacts that could result whenever it considers the issuance of an authorization. This gathering of public input is referred to as “scoping;” and staff intends to prepare an EIS that will address the concerns received in response to this notice based on Golden Pass's Amendments. The EIS will tier off Commission staff's EIS and its findings and conclusions for the Golden Pass LNG Export Project and Expansion Pipeline Project approved in the December 21, 2016 Order.¹ Therefore, the Commission requests comments on potential alternatives and impacts regarding the Amendments, and any relevant information, studies, or analyses of any kind concerning impacts affecting the quality of the human environment. To ensure that your comments are timely and properly recorded, please submit your comments so that the Commission receives them in Washington, DC on or before 5:00 p.m. Eastern Time on December 6, 2021. Further details on how to submit comments are provided in the Public Participation section of this notice.

¹ The EIS for the Golden Pass LNG Export Project and Expansion Pipeline Project were filed in Docket Nos. CP14-517-000, CP14-518-000 under Accession No. 20160729-4002.

Golden Pass provided landowners with a fact sheet prepared by the FERC entitled “An Interstate Natural Gas Facility On My Land? What Do I Need To Know?” which addresses typically asked questions, including how to participate in the Commission's proceedings. This fact sheet along with other landowner topics of interest are available for viewing on the FERC website (www.ferc.gov) under the Natural Gas Questions or Landowner Topics link.

Public Participation

There are three methods you can use to submit your comments to the Commission. The Commission encourages electronic filing of comments and has staff available to assist you at (866) 208-3676 or FercOnlineSupport@ferc.gov. Please carefully follow these instructions so that your comments are properly recorded.

(1) You can file your comments electronically using the eComment feature, which is located on the Commission's website (www.ferc.gov) under the link to FERC Online. Using eComment is an easy method for submitting brief, text-only comments on a project;

(2) You can file your comments electronically by using the eFiling feature, which is also on the Commission's website (www.ferc.gov) under the link to FERC Online. With eFiling, you can provide comments in a variety of formats by attaching them as a file with your submission. New eFiling users must first create an account by clicking on “eRegister.” You will be asked to select the type of filing you are making; a comment on a particular project is considered a “Comment on a Filing”; or

(3) You can file a paper copy of your comments by mailing them to the Commission. Be sure to reference the Project docket numbers (CP21-1-000; CP21-458-000) on your letter. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, MD 20852.

Additionally, the Commission offers a free service called eSubscription. This service provides automatic notification of filings made to subscribed dockets, document summaries, and direct links to the documents. Go to https://www.ferc.gov/ferc-online/overview to register for eSubscription.

Summary of the Proposed Amendments

Golden Pass proposes to relocate, modify, and eliminate certain pipeline facilities previously approved by the Commission, but not yet constructed, as part of the Pipeline Expansion Project (Docket No. CP14-518-000). According to Golden Pass, the MP66-69 Compression Relocation and Modification Amendment and the MP33 Compressor Station Modification Amendment are required due to are required due to new supply arrangements and the resulting engineering design, including pipeline hydraulics and delivery pressure requirements.

The MP66-69 Compression Relocation and Modification Amendment would consist of the following facilities in Calcasieu Parish, Louisiana (CP21-1-000):

• Relocating the approved compressor station at Milepost (MP) 66 approximately 3 miles, to MP 69, and increase the amount of compression at the relocated facility;

• adding a meter station near MP 69 to support a new interconnection (Gulf Run Interconnection and Meter Station) with a proposed interstate pipeline to be constructed an operated by Enable Gulf Run Transmission, LLC;

• removing any bi-directional piping modification to the interconnect; and

• minor modifications to existing interconnects at MP 66 and MP 68 (Transco Interconnection).

The MP33 Compressor Station Modification Amendment would consist of the following facilities in Orange County, Texas (CP21-458-000):

• Relocating the MP33 Compressor Station approximately 50 feet north-northwest to avoid an existing pipeline right-of-way;

• increasing the authorized compression at the MP33 Compression Station from 17,994 horsepower to 37,101 horsepower;

• constructing three new interconnects and appurtenant facilities adjacent to the MP33 Compressor Station, one interconnect with Midcoast Pipelines L.P, and existing Texas intrastate pipeline that will expand its system to deliver gas on Golden Pass's system, and two interconnects with Golden Triangle Storage, Inc., a jurisdiction provider, that would enable deliveries from and receipts into Golden Pass's system; and

• eliminating receipt stations at the existing Texoma delivery interconnect on Golden Pass's existing system.

Based on the environmental information provided by Golden Pass, construction of the proposed facilities in Calcasieu Parish, Louisiana would disturb about 44 acres of land for the aboveground facilities and the pipeline. Following construction, Golden Pass would maintain about 35 acres for operation of the Amendment facilities; the remaining acreage would be restored and revert to former uses. All of the land on which the proposed MP33 Compressor Station modification would be located in Orange County, Texas is owned by Golden Pass. Accordingly, construction of the MP33 Compression Station would not adversely affect landowners.

In reviewing the Golden Pass' MP66-69 Compression Relocation and Modification Amendment proposal in Calcasieu Parish, Louisiana, no surface waterbodies are in the Amendment footprint, and the proposed amendment would actually reduce impacts on wetlands compared to the 2016 FEIS. Commission staff have identified several expected impacts that deserve attention in the EIS.

The general location of the Amendments is shown in appendix 1.²

² The appendices referenced in this notice will not appear in the Federal Register. Copies of the appendices were sent to all those receiving this notice in the mail and are available at www.ferc.gov using the link called “eLibrary”. For instructions on connecting to eLibrary, refer to the last page of this notice. At this time, the Commission has suspended access to the Commission's Public Reference Room due to the proclamation declaring a National Emergency concerning the Novel Coronavirus Disease (COVID-19), issued by the President on March 13, 2020. For assistance, contact FERC at FERCOnlineSupport@ferc.gov or call toll free, (886) 208-3676 or TTY (202) 502-8659.

Based on the previous pre-filing review and a review of Golden Pass' filings, Commission staff have identified increased greenhouse gas emissions as an expected impact that deserves attention in the EIS.

The NEPA Process and the EIS

The EIS issued by the Commission will discuss impacts that could occur as a result of the construction and operation of the proposed Amendments under the relevant general resource areas:

• Geology and soils;

• water resources and wetlands;

• vegetation and wildlife;

• threatened and endangered species;

• cultural resources;

• land use;

• socioeconomics and environmental justice;

• air quality and noise;

• public safety; and

• cumulative impacts.

Commission staff will also make recommendations on how to lessen or avoid impacts on the various resource areas. Your comments will help Commission staff focus its analysis on the issues that may have a significant effect on the human environment.

The EIS will present Commission staff's independent analysis of the issues. Staff will prepare a draft EIS which will be issued for public comment. Commission staff will consider all timely comments received during the comment period on the draft EIS and revise the document, as necessary, before issuing a final EIS. Any draft and final EIS will be available in electronic format in the public record through eLibrary ³ and the Commission's natural gas environmental documents web page (https://www.ferc.gov/industries-data/natural-gas/environment/environmental-documents). If eSubscribed, you will receive instant email notification when the environmental document is issued.

³ For instructions on connecting to eLibrary, refer to the last page of this notice.

Alternatives Under Consideration

The EIS will evaluate reasonable alternatives that are technically and economically feasible and meet the purpose and need for the proposed actions. Alternatives currently under consideration include:

• The no-action alternative, meaning the Amendments are not implemented and the authorized Golden Pass Pipeline Expansion Project would remain as certificated.

With this notice, the Commission requests specific comments regarding any additional potential alternatives to the proposed action or segments of the proposed action. Please focus your comments on reasonable alternatives (including alternative facility sites and pipeline routes) that meet the Amendments purpose, are technically and economically feasible, and avoid or lessen environmental impact.

Consultation Under Section 106 of the National Historic Preservation Act

In accordance with the Advisory Council on Historic Preservation's implementing regulations for section 106 of the National Historic Preservation Act, the Commission is using this notice to initiate consultation with the applicable State Historic Preservation Office(s), and to solicit their views and those of other government agencies, interested Indian tribes, and the public on the Amendments' potential effects on historic properties.⁴ The environmental document for these Amendments will document findings on the impacts on historic properties and summarize the status of consultations under section 106.

⁴ The Advisory Council on Historic Preservation's regulations are at Title 36, Code of Federal Regulations, Part 800. Those regulations define historic properties as any prehistoric or historic district, site, building, structure, or object included in or eligible for inclusion in the National Register of Historic Places.

Schedule for Environmental Review

On October 19, 2020 and June 23, 2021, the Commission issued its Notice of Application for the Amendments. Among other things, the notices alerted other agencies issuing federal authorizations of the requirement to complete all necessary reviews and to reach a final decision on the request for a federal authorization within 90 days of the date of issuance of the Commission staff's final EIS for the Amendments. This notice identifies the Commission staff's planned schedule for completion of the final EIS for the Project, which is based on an issuance of the draft EIS in February 2022.

Issuance of Notice of Availability of the final EIS—June 24, 2022

90-day Federal Authorization Decision Deadline—September 22, 2022

If a schedule change becomes necessary for the final EIS, an additional notice will be provided so that the relevant agencies are kept informed of the Amendments' progress.

Permits and Authorizations

The table below lists the anticipated permits and authorizations for the Amendments required under federal law. This list may not be all-inclusive and does not preclude any permit or authorization if it is not listed here. Agencies with jurisdiction by law and/or special expertise may formally cooperate in the preparation of the Commission's EIS and may adopt the EIS to satisfy their NEPA responsibilities related to these Amendments. Agencies that would like to request cooperating agency status should follow the instructions for filing comments provided under the Public Participation section of this notice.

Environmental Permits, Approvals, Clearances, and Consultations
Agency | Permit, Approval, or Consultation
FEDERAL
Federal Energy Regulatory Commission | Natural Gas Act Section 7.
U.S. Army Corps of Engineers (USACE), New Orleans, Louisiana District | Clean Water Act Section 404 Permit.
U.S. Fish & Wildlife Service | Section 7 of the Endangered Species Act, Migratory Bird Treaty Act, Bald and Golden Eagle Protection Act.
U.S. Department of Transportation | Pre-construction Notice.
STATE of LOUISIANA
Louisiana Department of Natural Resources Office of Coastal Management | Coastal Use Permit Coastal Zone Management Act Consistency Determination.
Louisiana Department of Environmental Quality (LDEQ)—Air Quality Division | Minor New Source Review (NSR) permit for MP 69 Compressor Station.
Louisiana Department of Environmental Quality—Water Quality Division | Section 401 Clean Water Act Water Quality Certification. Louisiana Pollutant Discharge Elimination System General Permit LAG670000—Hydrostatic Test Water Discharge Permit.
Louisiana Department of Wildlife and Fisheries | Threatened and Endangered Species Consultation.
Louisiana Department of Culture Recreation and Tourism/State Historic Preservation Officer | Section 106 National Historic Preservation Act Consultation.
Louisiana Department of Transportation and Development | Review of road easements, modifications to state highways, traffic safety.
STATE of TEXAS
EPA, Region VI | Issuance of National Pollutant Discharge Elimination System permits: • Industrial Stormwater Permit • Process Waste Water Discharge Permit • Stormwater Construction General Permit (Notification).
U.S. Fish and Wildlife Service | Consultation for Federally protected threatened and endangered species.
U.S. Army Corps of Engineers (“USACE”), Galveston, TX District | Section 404 Permit for impacts on waters of the U.S., including wetlands.
Texas Commission on Environmental Quality | Minor New Source Review (NSR) Permit.
Texas Historical Commission State Historic Preservation Office | Section 106 National Historic Preservation Act Consultation.
Railroad Commission of Texas and Texas General Land office | Texas Natural Resource Code Section 91.101 and Texas Water Code Section 26.131 Water Quality Certification.
Texas Parks and Wildlife Department | Threatened and Endangered Species Consultation.

Environmental Mailing List

This notice is being sent to the Commission's current environmental mailing list for the Amendments which includes federal, state, and local government representatives and agencies; elected officials; environmental and public interest groups; federally recognized Indian tribes; other interested parties; and local libraries and newspapers. This list also includes all affected landowners (as defined in the Commission's regulations) who own homes within certain distances of aboveground facilities, and anyone who submits comments on the Amendments and includes a mailing address with their comments. Commission staff will update the environmental mailing list as the analysis proceeds to ensure that Commission notices related to this environmental review are sent to all individuals, organizations, and government entities interested in and/or potentially affected by the proposed Amendments. State and local government representatives should notify their constituents of this proposed Amendments and encourage them to comment on their areas of concern.

If you need to make changes to your name/address, or if you would like to remove your name from the mailing list, please complete one of the following steps:

(1) Send an email to GasProjectAddressChange@ferc.gov stating your request. You must include the docket number CP21-1-000 or CP21-458-000 in your request. If you are requesting a change to your address, please be sure to include your name and the correct address. If you are requesting to delete your address from the mailing list, please include your name and address as it appeared on this notice. This email address is unable to accept comments.

OR

(2) Return the attached “Mailing List Update Form” (appendix 2).

Additional Information

Additional information about the Amendments is available from the Commission's Office of External Affairs, at (866) 208-FERC, or on the FERC website at www.ferc.gov using the eLibrary link. Click on the eLibrary link, click on “General Search” and enter the docket number in the “Docket Number” field (i.e., CP21-1, CP21-458). Be sure you have selected an appropriate date range. For assistance, please contact FERC Online Support at FercOnlineSupport@ferc.gov or (866) 208-3676, or for TTY, contact (202) 502-8659. The eLibrary link also provides access to the texts of all formal documents issued by the Commission, such as orders, notices, and rulemakings.

Public sessions or site visits will be posted on the Commission's calendar located at https://www.ferc.gov/news-events/events along with other related information.

Dated: November 5, 2021.
Kimberly D. Bose,
Secretary.

[FR Doc. 2021-24661 Filed 11-10-21; 8:45 am]

BILLING CODE 6717-01-P